DEPARTMENT OF THE TREASURY

Office of Foreign Assets Control

Unblocking of Two Specially Designated Nationals and Blocked Persons Pursuant to Executive Order

AGENCY: Office of Foreign Assets Control, Treasury.

ACTION: Notice.

SUMMARY: The Treasury Department's Office of Foreign Assets Control (“OFAC”) is publishing the names of two individuals whose property and interests in property have been unblocked pursuant to Executive Order 13310 of July 28, 2003, “Blocking Property of the Government of Burma and Prohibiting Certain Transactions.”

DATES: The unblocking and removal from the list of Specially Designated Nationals and Blocked Persons (“SDN List”) of the individuals identified in this notice whose property and interests in property were blocked pursuant to Executive Order 13310 of July 28, 2003, is effective on September 19, 2012.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's web site (www.treasury.gov/ofac) or via facsimile through a 24-hour fax-on demand service tel.: (202) 622-0077.

Background

On May 20, 1997, President Clinton issued Executive Order 13047, “Prohibiting New Investment in Burma,” and declared a national emergency to deal with the unusual and extraordinary threat to the national security and foreign policy of the United States posed by the Government of Burma's actions and policies. In order to take additional steps with respect to the Government of Burma's continued repression of the democratic opposition in Burma, President Bush issued Executive Order 13310, “Blocking Property of the Government of Burma and Prohibiting Certain Transactions” (“the Order” or “E.O. 13310”). E.O. 13310 imposes economic sanctions on persons listed in the Annex to the Order. The Order also authorizes the Secretary of the Treasury, in consultation with the Secretary of State, to designate additional persons determined to meet the criteria set forth in E.O. 13310.

On September 27, 2007, the Director of OFAC, in consultation with the Secretary of State, designated, pursuant to one or more of the criteria set forth in subparagraphs (b)(i) through (b)(ii) of Section 1 of the Order, the individuals listed below, whose property and interests in property were blocked pursuant to the Order.

On September 19, 2012, the Director of OFAC removed and unblocked from the SDN List the two individuals listed below, whose property and interests in property were blocked pursuant to E.O. 13310.

1. SEIN, THEIN; DOB 20 Apr 1945; POB Pathein, Irrawaddy Division, nationality Burma; citizen Burma; Adjutant General; First Secretary, State Peace and Development Council (individual) [BURMA]

2. MANN, THURA SHWE (a.k.a. MANN, SHWE); DOB 11 Jul 1947; nationality Burma; citizen Burma; Joint Chief of Staff; Member, State Peace and Development Council (individual) [BURMA]

Dated: September 24, 2012.
Adam J. Szubin,
Director, Office of Foreign Assets Control.

[FR Doc. 2012-24180 Filed 10-1-12; 8:45 am]

BILLING CODE 4810-AL-P